EXPORT-IMPORT BANK

[Public Notice 2013-3008]

Agency Information Collection Activities: Comment Request

AGENCY: Export-Import Bank of the United States.

ACTION: Submission for OMB review and comments request.

Form Title: EIB 92-36 Application for Issuing Bank Credit Limit (IBCL) Under Lender or Exporter-Held Policies.

SUMMARY: The Export-Import Banks of the United States (Ex-Im Bank), as part of its continuing effort to reduce paperwork and respondent burden, invites the general public and other Federal Agencies to comment on the proposed information collection, as required by the Paperwork Reduction Act of 1995.

This collection of information is necessary, pursuant to 12 U.S.C. 635(a)(1), to determine eligibility of the applicant for Ex-Im Bank assistance.

The application tool can be reviewed at: http://www.exim.gov/pub/pending/Form%20EIB%2092-36%20v3.pdf.

DATES: Comments must be received on or before February 28, 2014 to be assured of consideration.

ADDRESSES: Comments may be submitted electronically on www.regulations.gov or by mail to Office of Information and Regulatory Affairs, 725 17th Street NW., Washington, DC 20038, Attn: OMB 3048-92-36.

SUPPLEMENTARY INFORMATION: Title and Form Number: EIB 92-36 Application for Issuing Bank Credit Limit (IBCL) Under Lender or Exporter-Held Policies

OMB Number: 3048-0016

Type of Review: Regular

Need and Use: This form is used by an insured exporter or lender (or broker acting on its behalf) in order to obtain approval for coverage of the repayment risk of an overseas bank. The information received allows Ex-Im Bank staff to make a determination of the creditworthiness of the foreign bank and the underlying export sale for Ex-Im Bank assistance under its programs.

This form has been updated to include a new Certification and Notices section as well as a new statement explaining Ex-Im Bank's limitation on support for goods subject to trade measures or sanctions.

Affected Public:

This form affects entities involved in the export of U.S. goods and services.

Annual Number of Respondents: 480

Estimated Time per Respondent: 1 hour

Annual Burden Hours: 480 hours

Frequency of Reporting of Use: As needed

Government Expenses:

Reviewing time per year: 480 hours

Average Wages per Hour: $42.50

Average Cost per Year: $20,400

(time*wages)

Benefits and Overhead: 20%

Total Government Cost: $24,480

Bonita Jones,
Program Analyst, Records Management Division, Agency Clearance Officer, Office of the Chief Information Officer.

[FR Doc. 2014-01623 Filed 1-28-14; 8:45 am]

BILLING CODE 6690-01-P